FEDERAL COMMUNICATIONS COMMISSION

[FR ID: 260101]

Privacy Act of 1974; System of Records

AGENCY: Federal Communications Commission.

ACTION: Notice of a modified system of records.

SUMMARY: The Federal Communications Commission (FCC or Commission or Agency) has modified an existing system of records, FCC/OGC-5, Pending Civil Cases, subject to the Privacy Act of 1974, as amended. This action is necessary to meet the requirements of the Privacy Act to publish in the Federal Register notice of the existence and character of records maintained by the agency. The Office of the General Counsel (OGC) uses this system to update or furnish additional data, which may include personally identifiable information, for the Department of Justice (DOJ), in those instances in which DOJ is handling a pending civil case involving or on behalf of the FCC.

DATES: This modified system of records will become effective on November 13, 2024. Written comments on the routine uses are due by December 13, 2024. The routine uses in this action will become effective on December 13, 2024 unless comments are received that require a contrary determination.

ADDRESSES: Send comments to Brendan McTaggart, Federal Communications Commission, 45 L Street NE, Washington, DC 20554, or privacy@fcc.gov.

FOR FURTHER INFORMATION CONTACT: Brendan McTaggart, (202) 418-1738, or privacy@fcc.gov.

SUPPLEMENTARY INFORMATION: This notice serves to update and modify FCC/OGC-5 as a result of various necessary changes and updates. The substantive changes and modifications to the previously published version of the FCC/OGC-5 system of records include updating and/or revising language in eight routine uses (listed by the routine use number provided in this notice): (1) Litigation and (2) Adjudication, which were formerly a single routine use; (3) Law Enforcement and Investigation; (4) Congressional Inquiries; (5) Government-wide Program Management and Oversight; (6) Breach Notification, the modification of which is required by OMB M-17-12; (7) Assistance to Federal Agencies and Entities Related to Breaches, the addition of which is required by OMB M-17-12; and (8) Nonfederal Personnel.

The system of records is also updated to reflect various administrative changes related to the system managers and system addresses; policy and practices for storage, retention, disposal and retrieval of the information; administrative, technical, and physical safeguards; and updated notification, records access, and contesting records procedures.

SYSTEM NAME AND NUMBER:

FCC/OGC-5, Pending Civil Cases.

SECURITY CLASSIFICATION:

Unclassified.

SYSTEM LOCATION:

OGC, FCC, 45 L Street NE, Washington, DC 20554.

SYSTEM MANAGER(S):

OGC, FCC, 45 L Street NE, Washington, DC 20554.

AUTHORITY FOR MAINTENANCE OF THE SYSTEM:

47 U.S.C. 401 and 402; 31 U.S.C. 3729-3733.

PURPOSE(S) OF THE SYSTEM:

Commission attorneys use this system to update or furnish additional data for DOJ, in those instances in which DOJ is handling a pending civil case involving or on behalf of the FCC.

CATEGORIES OF INDIVIDUALS COVERED BY THE SYSTEM:

Any individual who has filed a case involving the FCC before any District Court, Court of Appeals, or the Supreme Court, as well as any other named individuals in the complaint, filing, or appeal.

CATEGORIES OF RECORDS IN THE SYSTEM:

Information in this system of records may include the name and contact information of the individual(s) associated with a civil case involving the FCC, as well as letters, memoranda, pleadings, briefs, and bankruptcy papers related to the case.

RECORD SOURCE CATEGORIES:

The sources for the information in this system of records include:

(a) Individuals filing claims in civil cases;

(b) Individuals who are the subjects of, or are named in civil cases involving the FCC;

(c) Attorneys or representatives of the claimants and the subjects of the claims in civil cases;

(d) Communication between FCC organizational units (Bureaus and Offices or B/Os), the DOJ including U.S. Attorneys, other Federal agencies, and courts of competent jurisdiction; and

(e) Parties to the proceedings and the investigative materials and related documentation and decisions that involve complaints, appeals, amendments, and litigation concerning such claims in civil cases.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows. In each of these cases, the FCC will determine whether disclosure of the records is compatible with the purpose(s) for which the records were collected:

1. Litigation—Records may be disclosed to the Department of Justice (DOJ) when: (a) the FCC or any component thereof; (b) any employee of the FCC in his or her official capacity; (c) any employee of the FCC in his or her individual capacity where the DOJ or the FCC has agreed to represent the employee; or (d) the United States Government is a party to litigation or has an interest in such litigation, and by careful review, the FCC determines that the records are both relevant and necessary to the litigation, and the use of such records by the DOJ is for a purpose that is compatible with the purpose for which the FCC collected the records.

2. Adjudication—Records may be disclosed in a proceeding before a court or adjudicative body, when: (a) the FCC or any component thereof; or (b) any employee of the FCC in his or her official capacity; or (c) any employee of the FCC in his or her individual capacity; or (d) the United States Government, is a party to litigation or has an interest in such litigation, and by careful review, the FCC determines that the records are both relevant and necessary to the litigation, and that the use of such records is for a purpose that is compatible with the purpose for which the agency collected the records.

3. Law Enforcement and Investigation—When the FCC investigates any violation or potential violation of a civil or criminal law, regulation, policy, executed consent decree, order, or any other type of compulsory obligation and determines that a record in this system, either alone or in conjunction with other information, indicates a violation or potential violation of law, regulation, policy, consent decree, order, or other compulsory obligation, the FCC may disclose pertinent information as it deems necessary to the target of an investigation, as well as with the appropriate Federal, State, local, Tribal, international, or multinational agencies, or a component of such an agency, responsible for investigating, prosecuting, enforcing, or implementing a statute, rule, regulation, or order.

4. Congressional Inquiries—Information may be provided to a Congressional office in response to an inquiry from that Congressional office made at the written request of the individual to whom the information pertains.

5. Government-wide Program Management and Oversight—Information may be disclosed to the DOJ to obtain that department's advice regarding disclosure obligations under the Freedom of Information Act (FOIA); or to the Office of Management and Budget (OMB) to obtain that office's advice regarding obligations under the Privacy Act.

6. Breach Notification—Records may be disclosed to appropriate agencies, entities, and persons when: (a) the Commission suspects or has confirmed that there has been a breach of the system of records; (b) the Commission has determined that as a result of the suspected or confirmed breach there is a risk of harm to individuals, the Commission (including its information system, programs, and operations), the Federal Government, or national security; and; and (c) the disclosure made to such agencies, entities, and persons is reasonably necessary to assist in connection with the Commission's efforts to respond to the suspected or confirmed breach or to prevent, minimize, or remedy such harm.

7. Assistance to Federal Agencies and Entities Related to Breaches—Records may be disclosed to another Federal agency or Federal entity, when the Commission determines that information from this system is reasonably necessary to assist the recipient agency or entity in: (a) Responding to a suspected or confirmed breach or (b) preventing, minimizing, or remedying the risk of harm to individuals, the recipient agency or entity (including its information systems, program, and operations), the Federal Government, or national security, resulting from a suspected or confirmed breach.

8. Non-Federal Personnel—Records may be disclosed to non-Federal personnel, including contractors, other vendors (e.g., identity verification services), grantees, and volunteers who have been engaged to assist the FCC in the performance of a service, grant, cooperative agreement, or other activity related to this system of records and who need to have access to the records in order to perform their activity.

POLICIES AND PRACTICES FOR STORAGE OF RECORDS:

Information in this system includes both paper and electronic records. The paper records, documents, and files are maintained in file cabinets that are located in OGC and in the B/Os of the FCC staff who provide the responses to such claims. Electronic records in this system reside on the FCC or a vendor's network.

POLICIES AND PRACTICES FOR RETRIEVAL OF RECORDS:

Records are retrieved by the name of the individual filing or subject of the claim.

POLICIES AND PRACTICES FOR RETENTION AND DISPOSAL OF RECORDS:

Records are retained and disposed of in accordance with the FCC records control schedule N1-173-91-001, Item 6, approved by the National Archives and Records Administration (NARA). The records are destroyed 3 years after closure of the matter or when no longer required for administrative purposes, whichever is sooner.

ADMINISTRATIVE, TECHNICAL, AND PHYSICAL SAFEGUARDS:

The file cabinets containing paper records in this system are maintained in file cabinets in “non-public” rooms in the OGC or B/O suites. The OGC and B/O file cabinets are locked at the end of the business day. Access to these offices is through key and card-coded main doors. Only authorized OGC and B/O supervisors and staff have access to these paper records.

Electronic records, files, and data are stored within FCC or a vendor's accreditation boundaries and maintained in a database housed in the FCC's or vendor's computer network databases. Access to the electronic files is restricted to authorized employees and contractors; and to IT staff, contractors, and vendors who maintain the IT networks and services. Other employees and contractors may be granted access on a need-to-know basis. The electronic files and records are protected by the FCC and third-party privacy safeguards, a comprehensive and dynamic set of IT safety and security protocols and features that are designed to meet all Federal privacy standards, including those required by the Federal Information Security Modernization Act of 2014 (FISMA), the Office of Management and Budget (OMB), and the National Institute of Standards and Technology (NIST).

RECORD ACCESS PROCEDURES:

Individuals wishing to request access to and/or amendment of records about themselves should follow the Notification Procedures below.

CONTESTING RECORD PROCEDURES:

Individuals wishing to request access to and/or amendment of records about themselves should follow the Notification Procedures below.

NOTIFICATION PROCEDURES:

Individuals wishing to determine whether this system of records contains information about themselves may do so by writing to privacy@fcc.gov. Individuals requesting access must also comply with the FCC's Privacy Act regulations regarding verification of identity to gain access to records as required under 47 CFR part 0, subpart E.

EXEMPTIONS PROMULGATED FOR THE SYSTEM:

None.

HISTORY:

45 FR 9738 (March 7, 2018).

Federal Communications Commission.
Marlene Dortch,
Secretary.

[FR Doc. 2024-26212 Filed 11-12-24; 8:45 am]

BILLING CODE 6712-01-P